INTERNATIONAL TRADE COMMISSION

[Investigation No. 731-TA-1462 (Final)]

Glass Containers From China

Determination

On the basis of the record ¹ developed in the subject investigation, the United States International Trade Commission (“Commission”) determines, pursuant to the Tariff Act of 1930 (“the Act”), that an industry in the United States is not materially injured or threatened with material injury by reason of imports of glass containers from China, provided for in subheading 7010.90.50 of the Harmonized Tariff Schedule of the United States, that have been found by the U.S. Department of Commerce (“Commerce”) to be sold in the United States at less than fair value (“LTFV”).²

¹ The record is defined in § 207.2(f) of the Commission's Rules of Practice and Procedure (19 CFR 207.2(f)).

² 85 FR 58333 (September 18, 2020).

Background

The Commission instituted this investigation effective September 25, 2019, following receipt of antidumping and countervailing duty petitions filed with the Commission and Commerce by the American Glass Packaging Coalition, Tampa, Florida, and Chicago, Illinois. The Commission scheduled the final phase of the investigation following notification of a preliminary determination by Commerce that imports of glass containers from China were being subsidized within the meaning of section 703(b) of the Act (19 U.S.C. 1671b(b)). Notice of the scheduling of the final phase of the Commission's investigation and of a public hearing to be held in connection therewith was given by posting copies of the notice in the Office of the Secretary, U.S. International Trade Commission, Washington, DC, and by publishing the notice in the Federal Register of March 6, 2020 (85 FR 13183). In light of the restrictions on access to the Commission building due to the COVID-19 pandemic, the Commission conducted its hearing through a series of written questions and responses, written testimony, and video conference on May 6, 2020. All persons who requested the opportunity were permitted to participate. On June 26, 2020, the Commission issued a final negative determination in its countervailing duty investigation on glass containers from China.³ Following notification of a final determination by Commerce that imports of glass containers from China were being sold at LTFV within the meaning of 735(a) of the Act (19 U.S.C. 1673d(a)), notice of the supplemental scheduling of the final phase of the Commission's antidumping duty investigation was given by posting copies of the notice in the Office of the Secretary, U.S. International Trade Commission, Washington, DC, and by publishing the notice in the Federal Register of September 28, 2020 (85 FR 60829).

³ 85 FR 39932 (July 2, 2020).

The Commission made this determination pursuant to § 735(b) of the Act (19 U.S.C. 1673d(b)). It completed and filed its determination in this investigation on November 2, 2020. The views of the Commission are contained in USITC Publication 5132 (November 2020), entitled Glass Containers from China: Investigation No. 731-TA-1462 (Final).

By order of the Commission.
Issued: November 2, 2020.
Lisa Barton,
Secretary to the Commission.

[FR Doc. 2020-24594 Filed 11-4-20; 8:45 am]

BILLING CODE 7020-02-P